DEPARTMENT OF TRANSPORTATION

Federal Aviation Administration

User Input on the Use of the Current Icing Potential (CIP) Weather Product

AGENCY: Federal Aviation Administration (FAA), Department of Transportation (DOT).

ACTION: Notice of public meeting

SUMMARY: The FAA will hold an informal public meeting to seek aviation weather user input. Details: December 18, 2002; Federal Aviation Administration, 1575 “Eye” Street, Washington, DC.; 9 a.m. to 1 p.m. in the 9th Floor Conference Room. The objective of this meeting is to provide an opportunity for interested aviation weather users to discuss the use of the Current Icing Potential (CIP) product and provide input to FAA's plans for implementing this new weather product.

DATES: The meeting will be held in the 9th Floor Conference Room, 1575 “Eye” Street, Washington, DC Times: 9 a.m.-1 p.m. on December 18, 2002.

FOR FURTHER INFORMATION CONTACT: Steve Albersheim, Aerospace Weather Policy Division, ARS-100, Federal Aviation Administration, 800 Independence Ave., SW., Washington, DC 20591; telephone number (202) 385-7704; FAX: (202) 385-7701; e-mail: steve.albersheim@faa.gov. Internet address: http:\\www.steve.albersheim@faa.gov.

SUPPLEMENTARY INFORMATION:

History

On December 11, 2001, the Federal Aviation Administration's Aviation Weather Technology transfer (AWTT) Board approved the Current Icing Potential (CIP) for operational use. The CIP became operational in April 2002 for use by aviation meteorologists and airline operations center dispatchers who are trained on the use of the product. The CIP provides a graphical display of icing potential or the likelihood of icing in atmosphere. Further it allows users to obtain a visual portrayal of icing potential at different flight levels. The CIP does not indicate the severity of icing.

It is the intent of the FAA to allow all aviation users of the National Airspace System (NAS) to have access to this product. However, because the CIP cannot provide all the information that is currently contained in existing approved products as the AIRMET and SIGMET, limitations on its use have been stipulated.

The purpose of the proposed user meeting is to discuss needed changes in CIP to enable its use by pilots. The existing product uses input from satellite imagery and data, radar, surface observations, numerical models, and pilot weather reports to provide a three-dimensional diagnosis of hourly potential of icing and super cooled large droplets (SLD). Issues that need to be resolved for pilots is how this product in its planned future versions can be used in the following decisions: route/altitude selection, go-no go decisions, escape decisions, in-flight route changes, hazardous weather deviation, and landing decisions. It is important that pilots understand the attributes of the CIP and how it can be applicable in support of these various applications or decisions. This user meeting will begin the process to further evaluate how an improved CIP can be used to support these decisions. The meeting will be conducted in two parts

Meeting Procedures

(a) The meeting will be informal in nature and will be conducted by representatives of the FAA Headquarters.

(b) The meeting will be open to all persons on a space-available basis. Every effort was made to provide a meeting site with sufficient seating capacity for the expected participation. There will be neither admission fee nor other charge to attend and participate.

(c) FAA personnel present will conduct a briefing on the AWTT process and the history of the approval of this product. Any person will be allowed to ask questions during the presentation and FAA personnel will clarify any part of the presentation that is not clear.

(d) FAA personnel will present a briefing on the physical attributes of the product and how the information is processed to provide a three-dimensional analysis of conventional and SLD icing potential in space and time. Any person will be allowed to ask questions during the presentation and FAA personnel will clarify any part of the presentation that is not clear

(e) FAA personnel will lead a discussion on issues that relate to what improvements are required in the next version of CIP to allow pilots to use this product in the applications listed above. Specific issues include: the validity period of the product and how icing severity can be linked with icing potential. Any person present may participate in the discussion.

(f) An official verbatim transcript or minutes of the informal meeting will not be made. However, a list of the attendees and a digest of discussions during the meeting will be produced. Any person attending may receive a copy of the written information upon request to the information contact, above.

(g) Every reasonable effort will be made to hear each person's feedback consistent with a reasonable closing time for the meeting. Written feedback may also be submitted to FAA personnel for up to seven (7) days after the close of the meeting.

Agenda

(a) Opening Remarks and Discussion of Meeting Procedures.

(b) Briefing on AWTT Process history of the approval of this product.

(c) Briefing on the physical attributes of the product and information processing.

(d) Discussion on improvement issues for future versions of CIP.

(e) Closing Comments.

Issued In Washington, D.C. on November 21, 2002.
David Whatley,
Director, Aerospace Weather Policy and Standards Staff.

[FR Doc. 02-29453 Filed 11-20-02; 8:45 am]

BILLING CODE 4910-13-M